DEPARTMENT OF LABOR

Employment and Training Administration

[TA-W-70,235]

SCI, LLC/Zener-Rectifier Operations Division A Wholly Owned Subsidiary of SCI, LLC/ON Semiconductor Including On-Site Leased Workers From Superior Technical Resources Phoenix, AZ; Amended Certification Regarding Eligibility To Apply for Worker Adjustment Assistance

In accordance with Section 223 of the Trade Act of 1974, as amended (“Act”), 19 U.S.C. 2273, the Department of Labor issued a Certification of Eligibility to Apply for Worker Adjustment Assistance on October 19, 2009, applicable to workers of SCI LLC/Zener-Rectifier, Operations Division, a wholly owned subsidiary of SCI, LLC/ON Semiconductor, Phoenix, Arizona. The notice was published in the Federal Register on December 11, 2009 (74 FR 65795).

At the request of the petitioner, the Department reviewed the certification for workers of the subject firm. The workers are engaged in the production of semiconductor devices.

The company reports that workers leased from Superior Technical Resources were employed on-site at the Phoenix Arizona location of SCI LLC/Zener-Rectifier, Operations Division, a wholly owned subsidiary of SCI, LLC/ON Semiconductor. The Department has determined that these workers were sufficiently under the control of the subject firm to be considered leased workers.

Based on these findings, the Department is amending this certification to include workers leased from Superior Technical Resources working on-site at the Phoenix, Arizona location of SCI LLC/Zener-Rectifier, Operations Division, a wholly owned subsidiary of SCI, LLC/ON Semiconductor.

The amended notice applicable to TA-W-70,235 is hereby issued as follows:

All workers of SCI LLC/Zener-Rectifier, Operations Division, a wholly owned subsidiary of SCI, LLC/ON Semiconductor, including on-site leased workers from Superior Technical Resources Phoenix, Arizona, who became totally or partially separated from employment on or after May 18, 2008, through October 19, 2011, and all workers in the group threatened with total or partial separation from employment on the date of certification through two years from the date of certification, are eligible to apply for adjustment assistance under Chapter 2 of Title II of the Trade Act of 1974, as amended.

Signed at Washington, DC this 23rd day of April 2010.
Michael W. Jaffe,
Certifying Officer, Division of Trade Adjustment Assistance.

[FR Doc. 2010-10522 Filed 5-4-10; 8:45 am]

BILLING CODE 4510-FN-P